DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Fishery Observer Retention Survey.

OMB Control Number: 0648-xxxx.

Form Number(s): None.

Type of Request: Regular (request for a new information collection).

Number of Respondents: 785.

Average Hours per Response: 20 minutes.

Burden Hours: 262.

Needs and Uses: This request is for a new information collection.

NOAA Fisheries utilizes observers to collect information on catch, bycatch, fishing efforts, biological characteristics, interactions with protected species, and socioeconomic information from United States (U.S.) commercial fishing and processing vessels. More information on the observer population is needed to support the Agency's conservation and management goals, to strengthen and improve fishery management decision-making, and to satisfy legal mandates under the Reauthorization of the Magnuson-Stevens Fishery Conservation and Management Act (MSA), the Regulatory Flexibility Act (RFA), the Endangered Species Act, and the National Environmental Policy Act (NEPA), Executive Order 12866 (EO 12866), and other pertinent statutes.

The National Observer Program (NOP) is conducting a survey of fishery observers in order to investigate incentives and disincentives for remaining an observer and to identify their subsequent career choices. The data will be used by the NOP and regional observer programs to improve observer recruitment and retention rates. The survey results will be used by regional program managers to evaluate current observer provider contract requirements to increase observer retention. With a greater understanding of these data observer retention may increase as a result of improved recruitment for observers. Improved retention of qualified and experienced observers is expected to reduce training efforts and costs, and improve data quality. Observers are often the only independent data collection source for federal agency and scientists to collect at-sea data and are crucial in fishery management.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 29, 2016.
Sarah Brabson,
NOAA PRA Clearance Officer.

[FR Doc. 2016-15877 Filed 7-5-16; 8:45 am]

BILLING CODE 3510-22-P